DEPARTMENT OF AGRICULTURE

Submission for OMB Review; Comment Request

September 17, 2004.

The Department of Agriculture has submitted the following information collection requirement(s) to OMB for review and clearance under the Paperwork Reduction Act of 1995, Public Law 104-13. Comments regarding: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Animal Plant and Health Inspection Service

Title: Mexicali Valley-Karnal Bunt.

OMB Control Number: 0579-0132.

Summary of Collection: The Department of Agriculture is responsible for preventing plant diseases or insect pests from entering the United States, preventing the spread of pests not widely distributed in the United States, and eradicating those imported when eradication is feasible. The Plant Protection Act authorizes the Department to carry out this mission. Regulations in 7 CFR 319.59 through 319.59-2 restrict the importation into the U.S. of certain seeds, plants, and plant products from certain countries or localities in order to prevent an incursion of Karnal bunt (a fungal disease of wheat) into the U.S. Wheat and other wheat-related articles offered for entry from the Karnal bunt free zone of the Mexicali Valley would need to be accompanied by a phytosanitary certificate issued by the Mexican plant protection authorities. This certificate would state that the wheat or other articles were grown in the designated Karnal bunt free area of the Mexicali Valley.

Need and Use of the Information: The collected information contained on the signed phytosanitary certificate by Mexico's national plant protection official is used to ensure that wheat imported into the U.S. is free of Karnal bunt. If the information is not collected, introduction of Karnal bunt into the United States could cause millions of dollars in damage to U.S. wheat crops, as well as additional millions of dollars to eradicate.

Description of Respondents: Business or other for profit; Individuals or households; Farms.

Number of Respondents: 20.

Frequency of Responses: Reporting: On occasion.

Total Burden Hours: 120.

Animal and Plant Health Inspection Service

Title: Animal Welfare; Transportation of Animals on International Carriers.

OMB Control Number: 0579-0247.

Summary of Collection: Under the Animal Welfare Act (AWA) (U.S.C. 2131 et seq.), the Secretary of Agriculture is authorized to promulgate standards and other requirements governing the humane handling, care, treatment, and transportation of certain animals by dealers, research facilities, exhibitors, and carriers and intermediate handlers. The Secretary has delegated the responsibility for administering the AWA to the Administrator of the Animal and Plant Health Inspection Service (APHIS). APHIS intends to begin applying the AWA regulations and standards for the human transportation of animals in commerce to all international carriers operating within the United States, its territories, possessions, or the District of Columbia. APHIS believes that animals being transported by international carriers should be afforded the same protection under the AWA as if domestic carriers were transporting them.

Need and Use of the Information: APHIS will collect information using APHIS forms 7001, United States Interstate and International Certificate of Health Examination for Small Animals and 7011, Application for Registration. The information collected from the forms is necessary for carriers and intermediate handlers to properly care for and deliver the animals to destination in a speedy and humane manner. The information is also used in documenting instances of violations for possible legal action and for locating facilities or person who are evading regulations under the law. If the information were not collected, full enforcement of the AWA would be limited or totally ineffective.

Description of Respondents: Individuals or households; Not-for-profit institutions.

Number of Respondents: 20.

Frequency of Responses: Recordkeeping; Reporting: On occasion.

Total Burden Hours: 175.

Food Safety and Inspection Service

Title: Marking, Labeling, and Packaging of Meat, and Egg Products.

OMB Control Number: 0583-0092.

Summary of Collection: These statues: Federal Meat Inspection Act (FMIA) (21 U.S.C. 601 seq.), the Poultry Products Inspection Act (PPIA) (21 U.S.C. 451 et seq.), and the Egg Products Inspection Act (EPIA) (21 U.S.C. 1031, et seq.) mandate that Food Safety and Inspection Service (FSIS) protect the public by ensuring that meat, poultry, and egg products are safe, wholesome, unadulterated, and properly labeled and packaged. To control the manufacture of marking devices bearing official marks, FSIS requires that official meat and poultry establishments and the manufacturers of such marking devices complete FSIS form 5200-7, Authorization Certificate, and FSIS form 7234-1, Application for Approval of Labels, Marking or Device.

Need and Use of the Information: FSIS will collect information to ensure that meat and poultry product are accurately labeled. FSIS will also collect the following information: Establishment number, company name and address, name of product, action requested of FSIS, size of label, product formulation, special processing procedures, and a signature on the form.

Description of Respondents: Business or other for-profit.

Number of Respondents: 7,444.

Frequency of Responses: Recordkeeping; Reporting: On occasion.

Total Burden Hours: 82,348.

Rural Business-Cooperative Service

Title: Value-Added Producer Grants.

OMB Control Number: 0570-0039.

Summary of Collection: The Rural Business-Cooperative Service (RBS), an agency within the USDA Rural Development mission area, will administer the Value-Added Producer Grants Program. The program is authorized by the Agriculture Risk Protection Act of 2000 (Public Law 106-224) as amended by the Farm Security and Rural Investment Act of 2002 (Farm Bill) (Public Law 107-171). The objective of this program is to encourage producers of agricultural commodities and products of agricultural commodities to further refine these products increasing their value to end users of the product. These grants will be used for two purposes: (1) To fund feasibility studies, marketing and business plans, and similar development activities; (2) to use the grant as part of the venture's working capital fund. Grants will only be awarded if projects or ventures are determined to be economically viable and sustainable.

Need and Use of the Information: RBS will use the information collected to determine: (1) Eligibility; (2) the specific purpose for which the funds will be utilized; (3) time frames or dates by which activities are to be accomplished; (4) feasibility of the project; (5) applicants' experience in managing similar activities; and (6) the effectiveness and innovation used to address critical issues vital to value-added ventures development and sustainability. Without this information, there would be no basis on which to award funds.

Description of Respondents: Business or other for-profit.

Number of Respondents: 800.

Frequency of Responses: Recordkeeping; Reporting: On occasion.

Total Burden Hours: 34,040.

Rural Utilities Service

Title: Weather Radio Transmitter Grant Program.

OMB Control Number: 0572-0124.

Summary of Collection: The National Weather Service operates an All Hazards Early Warning System that alerts people in areas covered by its transmissions of approaching dangerous weather and other emergencies. The National Weather Service can typically provide warnings of specific weather dangers up to fifteen minutes prior to the event. At present, many rural areas lack National Oceanic and Atmospheric Administration's Weather Radio and Alert System (NOAA) Weather Radio coverage. The Weather Radio Transmitter Grant Program will provide grant funds for use in rural areas and communities of 50,000 or less inhabitant. The grant funds will be processed on a first-come basis until the appropriation is used in its entirety.

Need and Use of the Information: RUS will use the information from the submission to determine the following: (1) That adequate coverage in the area does not already exist and that the proposed coverage will meet the needs of the community; (2) that design requirements are met; and (3) that the funds needed to complete the project are adequate based on the grant and the matching portion from the applicant.

Description of Respondents: Not for-profit institutions; State, Local or Tribal Government.

Number of Respondents: 113.

Frequency of Responses: Reporting: On occasion.

Total Burden Hours: 678.

Rural Utilities Service

Title: 7 CFR 1777, Section 306C Water & Waste Disposal (WWD) Loans & Grants.

OMB Control Number: 0572-0109.

Summary of Collection: Rural Utilities Service is authorized to make loans and grants under Section 306C of the Consolidated Farm and Rural Development Act (7 U.S.C. 1926c). This program funds facilities and projects in low income rural communities whose residents face significant health risks. These communities do not have access to or are not served by adequate affordable water supply systems or waste disposal facilities. The loans and grants will be available to provide water and waste disposal facilities and services to these communities.

Need and Use of the Information: Eligible applicants submit an application package and other information to Rural Development field offices. Applicants may use the funds in two ways: (1) To develop or improve community water and waste disposal systems; (2) to make loans or grants to individuals for extending service lines to residences, connecting residence plumbing to the applicant's system, or improving residences to use the water or waste disposal system.

Description of Respondents: Not-for-profit institutions; Individuals or households.

Number of Respondents: 1.

Frequency of Responses: Reporting: Annually.

Total Burden Hours: 9.

Rural Housing Service

Title: Form RD 1940-59, Settlement Statement.

OMB Control Number: 0575-0088.

Summary of Collection: The Real Estate Settlement Procedures Act (RESPA), as amended, requires the disclosure of real estate settlement costs to real estate buyers and sellers. Disclosure of the nature and costs of a mortgage transaction enables the borrower to be a more informed customer and protects the public from unnecessarily high settlement charges. Failure to collect and disclose the information would be a violation of the RESPA. Form RD 1940-59, “Settlement Statement,” provides the buyer and the seller with a statement detailing the actual costs of the settlement services involved in certain Agency financed real estate transactions.

Need and Use of the Information: Form RD 1940-49 is completed by Settlement Agents, Closing Attorneys, and Title Insurance Companies performing the closing of RHS loans and credit sales used to purchase or refinance Section 502 Housing, Rural Rental Housing, and Farm Laboring Housing. The same parties performing the closing of FSA Farm Ownership loans and credit sales complete the form. Without this information, the agency would be unable to determine, if RESPA requirements are met.

Description of Respondents: Business or other profit.

Number of Respondents: 14,909.

Frequency of Responses: Reporting: On occasion.

Total Burden Hours: 7,455.

Sondra Blakey,
Departmental Information Collection Clearance Officer.

[FR Doc. 04-21352 Filed 9-22-04; 8:45 am]

BILLING CODES 3410-34-P, 3410-DM-P, 3410-XT-P, 3410-15-P